DEPARTMENT OF JUSTICE

Notice of Lodging of Consent Decree Pursuant to the Clean Air Act

In accordance with Department of Justice policy, 28 CFR 50.7, notice is hereby given that a proposed consent decree in the action entitled United States of America v. Shell Oil Company and Motiva Enterprises LLC, Civil Action No. 3:01CV00093 RNC (D. Conn.), was lodged on April 27, 2001 with the United States District Court for the District of Connecticut. The proposed consent decree resolves claims of the United States, on behalf of the U.S. Environmental Protection Agency, under Sections 111 and 112 of the Clean Air Act, 42 U.S.C. 7411 and 7412, its implementing federal regulations, and the Connecticut State Implementation Plan, against defendants Shell Oil Company and Motiva Enterprises LLC. These claims are for injunctive relief and civil penalties arising from defendants' alleged violations of the Clean Air Act, its implementing regulations, and the State Implementation Plan in connection with their operation of a bulk gasoline terminal located within the Towns of Bridgeport and Stratford, Connecticut.

Under the terms of the proposed consent decree, the defendants: (1) Will pay a civil penalty of $390,155 to the United States; (2) will purchase and permanently retire twenty-two tons worth of nitrogen oxide emission reduction credits during ozone season, to be purchased in either Connecticut, Massachusetts, New York, or Rhode Island; (3) have ceased operation of loading bay no. 5 at the gasoline terminal as of December 28, 2000, and are permanently enjoined from resuming any further operation of that loading bay until and unless they obtain the appropriate operating permit from the Connecticut Department of Environmental Protection; and (4) are permanently enjoined from loading gasoline or other volatile organic compounds into barges at the terminal without use of a vapor collection and disposal system.

The Department of Justice will receive, for a period of thirty (30) days from the date of this publication, comments relating to the proposed consent decree. Comments should be addressed to the Assistant Attorney General, Environment and Natural Resources Division, U.S. Department of Justice, Washington, DC 20530, and should refer to United States v. Shell Oil Company and Motiva Enterprises LLC, Civil Action No. 3:01V00093 RNC (D. Conn.), DOJ Ref. No. 90-5-2-1-06921.

The proposed consent decree may be examined at the Office of the United States Attorney, 157 Church Street, New Haven, Connecticut 06510, or at the U.S. Environmental Protection Agency, One Congress Street, Suite 1100, Boston, Massachusetts 02114-2023. A copy may be obtained by mail from the Consent Decree Library, U.S. Department of Justice, P.O. Box 7611, Ben Franklin Station, Washington, DC 20044-7611. In requesting a copy by mail, please refer to the referenced case and enclose a check in the amount of $3.75 (25 cents per page reproduction costs for the Decree) made payable to Consent Decree Library.

Ronald Gluck,
Assistant Chief, Environmental Enforcement Section, Environmental and Natural Resources Division, U.S. Department of Justice.

[FR Doc. 01-13026 Filed 5-22-01; 8:45 am]

BILLING CODE 4410-15-M